DEPARTMENT OF TRANSPORTATION

Federal Aviation Administration

14 CFR Part 71

[Docket No. FAA-2023-1785; Amendment No. 71-55]

RIN 2120-AA66

Airspace Designations; Incorporation by Reference Amendments

AGENCY: Federal Aviation Administration (FAA), DOT.

ACTION: Final rule, administrative correction.

SUMMARY: This action incorporates certain airspace designation amendments into FAA Order JO 7400.11H, dated August 11, 2023, and effective September 15, 2023, for incorporation by reference.

DATES: Effective date 0901 UTC September 26, 2023. The Director of the Federal Register approves this incorporation by reference action under 1 CFR part 51, subject to the annual revision of FAA Order JO 7400.11 and publication of conforming amendments.

ADDRESSES: A copy of the final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Sarah A. Combs, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order JO 7400.11, Airspace Designations and Reporting Points, incorporated by reference in 14 CFR 71.1, is published yearly. Amendments referred to as “effective date straddling amendments” were published under Order JO 7400.11G (dated August 19, 2022, and effective September 15, 2022) but became effective under Order JO 7400.11H (dated August 11, 2023, and effective September 15, 2023). This action incorporates these rules into the current FAA Order JO 7400.11H.

Accordingly, as this is an administrative correction to update final rule amendments into FAA Order JO 7400.11H, notice and public procedure under 5 U.S.C. 553(b) are unnecessary. Also, to bring these rules and legal descriptions current, I find that good cause exists, under 5 U.S.C. 553(d), for making this amendment effective in less than 30 days.

Incorporation by Reference

This document amends FAA Order JO 7400.11H, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by incorporating certain final rules into the current FAA Order JO 7400.11H, Airspace Designations and Reporting Points, dated August 11, 2023, and effective September 15, 2023, which are depicted on aeronautical charts.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Corrections

1. For Docket No. FAA-2023-0443; Airspace Docket No. 22-AGL-21 (88 FR 36935; June 6, 2023).

Correction

a. In the final rule amending 14 CFR part 71 published on June 6, 2023 (88 FR 36935) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 6, 2023 (88 FR 36935) for each instance of the words “FAA Order JO 7400.11G, dated August 19, 2022, and effective September 15, 2022” remove those words and add in their place “FAA Order JO 7400.11H, dated August 11, 2023, and effective September 15, 2023”.

c. In the final rule amending 14 CFR part 71 published on June 6, 2023 (88 FR 36935) for each instance of the words “FAA Order JO 7400.11G” remove those words and add in their place “FAA Order JO 7400.11H”.

2. For Docket No. FAA-2023-0642; Airspace Docket No. 23-ASW-8 (88 FR 38396; June 13, 2023).

Correction

a. In the final rule amending 14 CFR part 71 published on June 13, 2023 (88 FR 38396) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 13, 2023 (88 FR 38396) for each instance of the words “FAA Order JO 7400.11G, dated August 19, 2022, and effective September 15, 2022” remove those words and add in their place “FAA Order JO 7400.11H, dated August 11, 2023, and effective September 15, 2023”.

c. In the final rule amending 14 CFR part 71 published on June 13, 2023 (88 FR 38396) for each instance of the words “FAA Order JO 7400.11G” remove those words and add in their place “FAA Order JO 7400.11H”.

3. For Docket No. FAA-2023-0614; Airspace Docket No. 23-ASW-7 (88 FR 39161; June 15, 2023).

Correction

a. In the final rule amending 14 CFR part 71 published on June 13, 2023 (88 FR 38396) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 13, 2023 (88 FR 38396) for each instance of the words “FAA Order JO 7400.11G, dated August 19, 2022, and effective September 15, 2022” remove those words and add in their place “FAA Order JO 7400.11H, dated August 11, 2023, and effective September 15, 2023”.

c. In the final rule amending 14 CFR part 71 published on June 13, 2023 (88 FR 38396) for each instance of the words “FAA Order JO 7400.11G” remove those words and add in their place “FAA Order JO 7400.11H”.

3. For Docket No. FAA-2023-0614; Airspace Docket No. 23-ASW-7 (88 FR 39161; June 15, 2023).

Correction

a. In the final rule amending 14 CFR part 71 published on June 15, 2023 (88 FR 39161) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 15, 2023 (88 FR 39161) for each instance of the words “FAA Order JO 7400.11G, dated August 19, 2022, and effective September 15, 2022” remove those words and add in their place “FAA Order JO 7400.11H, dated August 11, 2023, and effective September 15, 2023”.

c. In the final rule amending 14 CFR part 71 published on June 15, 2023 (88 FR 39161) for each instance of the words “FAA Order JO 7400.11G” remove those words and add in their place “FAA Order JO 7400.11H”.

4. For Docket No. FAA-2023-0914; Airspace Docket No. 23-AGL-10 (88 FR 39162; June 15, 2023).

Correction

a. In the final rule amending 14 CFR part 71 published on June 15, 2023 (88 FR 39162) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 15, 2023 (88 FR 39162) for each instance of the words “FAA Order JO 7400.11G, dated August 19, 2022, and effective September 15, 2022” remove those words and add in their place “FAA Order JO 7400.11H, dated August 11, 2023, and effective September 15, 2023”.

c. In the final rule amending 14 CFR part 71 published on June 15, 2023 (88 FR 39162) for each instance of the words “FAA Order JO 7400.11G” remove those words and add in their place “FAA Order JO 7400.11H”.

5. For Docket No. FAA-2023-0947; Airspace Docket No. 23-ASW-12 (88 FR 39168; June 15, 2023).

Correction

a. In the final rule amending 14 CFR part 71 published on June 15, 2023 (88 FR 39168) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 15, 2023 (88 FR 39168) for each instance of the words “FAA Order JO 7400.11G, dated August 19, 2022, and effective September 15, 2022” remove those words and add in their place “FAA Order JO 7400.11H, dated August 11, 2023, and effective September 15, 2023”.

c. In the final rule amending 14 CFR part 71 published on June 15, 2023 (88 FR 39168) for each instance of the words “FAA Order JO 7400.11G” remove those words and add in their place “FAA Order JO 7400.11H”.

6. For Docket No. FAA-2023-0333; Airspace Docket No. 23-ASW-5 (88 FR 39165; June 15, 2023).

Correction

a. In the final rule amending 14 CFR part 71 published on June 15, 2023 (88 FR 39165) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 15, 2023 (88 FR 39165) for each instance of the words “FAA Order JO 7400.11G, dated August 19, 2022, and effective September 15, 2022” remove those words and add in their place “FAA Order JO 7400.11H, dated August 11, 2023, and effective September 15, 2023”.

c. In the final rule amending 14 CFR part 71 published on June 15, 2023 (88 FR 39165) for each instance of the words “FAA Order JO 7400.11G” remove those words and add in their place “FAA Order JO 7400.11H”.

7. For Docket No. FAA-2022-1444; Airspace Docket No. 22-AWP-74 (88 FR 39167; June 15, 2023).

Correction

a. In the final rule amending 14 CFR part 71 published on June 15, 2023 (88 FR 39167) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 15, 2023 (88 FR 39167) for each instance of the words “FAA Order JO 7400.11G, dated August 19, 2022, and effective September 15, 2022” remove those words and add in their place “FAA Order JO 7400.11H, dated August 11, 2023, and effective September 15, 2023”.

c. In the final rule amending 14 CFR part 71 published on June 15, 2023 (88 FR 39167) for each instance of the words “FAA Order JO 7400.11G” remove those words and add in their place “FAA Order JO 7400.11H”.

8. For Docket No. FAA-2023-1022; Airspace Docket No. 23-AWA-3 (88 FR 39347; June 16, 2023).

Correction

a. In the final rule amending 14 CFR part 71 published on June 16, 2023 (88 FR 39347) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 16, 2023 (88 FR 39347) for each instance of the words “FAA Order JO 7400.11G, dated August 19, 2022, and effective September 15, 2022” remove those words and add in their place “FAA Order JO 7400.11H, dated August 11, 2023, and effective September 15, 2023”.

c. In the final rule amending 14 CFR part 71 published on June 16, 2023 (88 FR 39347) for each instance of the words “FAA Order JO 7400.11G” remove those words and add in their place “FAA Order JO 7400.11H”.

9. For Docket No. FAA-2023-0502; Airspace Docket No. 23-ASO-09 (88 FR 39350; June 16, 2023).

Correction

a. In the final rule amending 14 CFR part 71 published on June 16, 2023 (88 FR 39350) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 16, 2023 (88 FR 39350) for each instance of the words “FAA Order JO 7400.11G, dated August 19, 2022, and effective September 15, 2022” remove those words and add in their place “FAA Order JO 7400.11H, dated August 11, 2023, and effective September 15, 2023”.

c. In the final rule amending 14 CFR part 71 published on June 16, 2023 (88 FR 39350) for each instance of the words “FAA Order JO 7400.11G” remove those words and add in their place “FAA Order JO 7400.11H”.

10. For Docket No. FAA-2023-0503; Airspace Docket No. 20-ASO-07 (88 FR 39346; June 16, 2023).

Correction

a. In the final rule amending 14 CFR part 71 published on June 16, 2023 (88 FR 39346) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 16, 2023 (88 FR 39346) for each instance of the words “FAA Order JO 7400.11G, dated August 19, 2022, and effective September 15, 2022” remove those words and add in their place “FAA Order JO 7400.11H, dated August 11, 2023, and effective September 15, 2023”.

c. In the final rule amending 14 CFR part 71 published on June 16, 2023 (88 FR 39346) for each instance of the words “FAA Order JO 7400.11G” remove those words and add in their place “FAA Order JO 7400.11H”.

11. For Docket No. FAA-2023-0533; Airspace Docket No. 22-ANM-64 (88 FR 39349; June 16, 2023).

Correction

a. In the final rule amending 14 CFR part 71 published on June 16, 2023 (88 FR 39349) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 16, 2023 (88 FR 39349) for each instance of the words “FAA Order JO 7400.11G, dated August 19, 2022, and effective September 15, 2022” remove those words and add in their place “FAA Order JO 7400.11H, dated August 11, 2023, and effective September 15, 2023”.

c. In the final rule amending 14 CFR part 71 published on June 16, 2023 (88 FR 39349) for each instance of the words “FAA Order JO 7400.11G” remove those words and add in their place “FAA Order JO 7400.11H”.

12. For Docket No. FAA-2023-0505; Airspace Docket No. 23-ASO-06 (88 FR 40695; June 22, 2023).

Correction

a. In the final rule amending 14 CFR part 71 published on June 22, 2023 (88 FR 40695) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 22, 2023 (88 FR 40695) for each instance of the words “FAA Order JO 7400.11G, dated August 19, 2022, and effective September 15, 2022” remove those words and add in their place “FAA Order JO 7400.11H, dated August 11, 2023, and effective September 15, 2023”.

c. In the final rule amending 14 CFR part 71 published on June 22, 2023 (88 FR 40695) for each instance of the words “FAA Order JO 7400.11G” remove those words and add in their place “FAA Order JO 7400.11H”.

13. For Docket No. FAA-2023-0913; Airspace Docket No. 23-AGL-9 (88 FR 41314; June 26, 2023).

Correction

a. In the final rule amending 14 CFR part 71 published on June 26, 2023 (88 FR 41314) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 26, 2023 (88 FR 41314) for each instance of the words “FAA Order JO 7400.11G, dated August 19, 2022, and effective September 15, 2022” remove those words and add in their place “FAA Order JO 7400.11H, dated August 11, 2023, and effective September 15, 2023”.

c. In the final rule amending 14 CFR part 71 published on June 26, 2023 (88 FR 41314) for each instance of the words “FAA Order JO 7400.11G” remove those words and add in their place “FAA Order JO 7400.11H”.

14. For Docket No. FAA-2023-0615; Airspace Docket No. 23-ASW-4 (88 FR 41819; June 28, 2023).

Correction

a. In the final rule amending 14 CFR part 71 published on June 28, 2023 (88 FR 41819) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 28, 2023 (88 FR 41819) for each instance of the words “FAA Order JO 7400.11G, dated August 19, 2022, and effective September 15, 2022” remove those words and add in their place “FAA Order JO 7400.11H, dated August 11, 2023, and effective September 15, 2023”.

c. In the final rule amending 14 CFR part 71 published on June 28, 2023 (88 FR 41819) for each instance of the words “FAA Order JO 7400.11G” remove those words and add in their place “FAA Order JO 7400.11H”.

15. For Docket No. FAA-2023-1352; Airspace Docket No. 23-ASO-24 (88 FR 42227, June 30, 2023; corrected 88 FR 54227, August 10, 2023).

Correction

a. In the final rule amending 14 CFR part 71 published on June 30, 2023 (88 FR 42227; corrected 88 FR 54227, August 10, 2023) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on June 30, 2023 (88 FR 42227; corrected 88 FR 54227, August 10, 2023) for each instance of the words “FAA Order JO 7400.11G, dated August 19, 2022, and effective September 15, 2022” remove those words and add in their place “FAA Order JO 7400.11H, dated August 11, 2023, and effective September 15, 2023”.

c. In the final rule amending 14 CFR part 71 published on June 30, 2023 (88 FR 42227; corrected 88 FR 54227, August 10, 2023) for each instance of the words “FAA Order JO 7400.11G” remove those words and add in their place “FAA Order JO 7400.11H”.

16. For Docket No. FAA-2023-1083; Airspace Docket No. 23-AWA-2 (88 FR 42869, July 5, 2023).

Correction

a. In the final rule amending 14 CFR part 71 published on July 5, 2023 (88 FR 42869) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 5, 2023 (88 FR 42869) for each instance of the words “FAA Order JO 7400.11G, dated August 19, 2022, and effective September 15, 2022” remove those words and add in their place “FAA Order JO 7400.11H, dated August 11, 2023, and effective September 15, 2023”.

c. In the final rule amending 14 CFR part 71 published on July 5, 2023 (88 FR 42869) for each instance of the words “FAA Order JO 7400.11G” remove those words and add in their place “FAA Order JO 7400.11H”.

17. For Docket No. FAA-2023-1009; Airspace Docket No. 23-ACE-5 (88 FR 43430, July 10, 2023).

Correction

a. In the final rule amending 14 CFR part 71 published on July 10, 2023 (88 FR 43430) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 10, 2023 (88 FR 43430) for each instance of the words “FAA Order JO 7400.11G, dated August 19, 2022, and effective September 15, 2022” remove those words and add in their place “FAA Order JO 7400.11H, dated August 11, 2023, and effective September 15, 2023”.

c. In the final rule amending 14 CFR part 71 published on July 10, 2023 (88 FR 43430) for each instance of the words “FAA Order JO 7400.11G” remove those words and add in their place “FAA Order JO 7400.11H”.

18. For Docket No. FAA-2023-1077; Airspace Docket No. 23-AGL-16 (88 FR 43429, July 10, 2023).

Correction

a. In the final rule amending 14 CFR part 71 published on July 10, 2023 (88 FR 43429) for each instance of the words “FAA Order JO 7400.11G, Airspace Designations and Reporting Points, dated August 19, 2022, and effective September 15, 2022” remove those words and add in their place “FAA Order JO 7400.11H, Airspace Designations and Reporting Points, dated August 10, 2023, and effective September 15, 2023”.

b. In the final rule amending 14 CFR part 71 published on July 10, 2023 (88 FR 43429) for each instance of the words “FAA Order JO 7400.11G, dated August 19, 2022, and effective September 15, 2022” remove those words and add in their place “FAA Order JO 7400.11H, dated August 11, 2023, and effective September 15, 2023”.

c. In the final rule amending 14 CFR part 71 published on July 10, 2023 (88 FR 43429) for each instance of the words “FAA Order JO 7400.11G” remove those words and add in their place “FAA Order JO 7400.11H”.

19. For Docket No. FAA-2023-1078; Airspace Docket No. 23-AWP-30 (88 FR 43431, July 10, 2023).

Correction

a. In the final rule amending 14 CFR part 71 published on July 10, 2023 (88 FR 43431) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 10, 2023 (88 FR 43431) for each instance of the words “FAA Order JO 7400.11G, dated August 19, 2022, and effective September 15, 2022” remove those words and add in their place “FAA Order JO 7400.11H, dated August 11, 2023, and effective September 15, 2023”.

c. In the final rule amending 14 CFR part 71 published on July 10, 2023 (88 FR 43431) for each instance of the words “FAA Order JO 7400.11G” remove those words and add in their place “FAA Order JO 7400.11H”.

20. For Docket No. FAA-2023-1007; Airspace Docket No. 23-AGL-13 (88 FR 43433, July 10, 2023).

Correction

a. In the final rule amending 14 CFR part 71 published on July 10, 2023 (88 FR 43433) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 10, 2023 (88 FR 43433) for each instance of the words “FAA Order JO 7400.11G, dated August 19, 2022, and effective September 15, 2022” remove those words and add in their place “FAA Order JO 7400.11H, dated August 11, 2023, and effective September 15, 2023”.

c. In the final rule amending 14 CFR part 71 published on July 10, 2023 (88 FR 43433) for each instance of the words “FAA Order JO 7400.11G” remove those words and add in their place “FAA Order JO 7400.11H”.

21. For Docket No. FAA-2023-0732; Airspace Docket No. 23-ASW-10 (88 FR 43432, July 10, 2023).

Correction

a. In the final rule amending 14 CFR part 71 published on July 10, 2023 (88 FR 43432) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 10, 2023 (88 FR 43432) for each instance of the words “FAA Order JO 7400.11G, dated August 19, 2022, and effective September 15, 2022” remove those words and add in their place “FAA Order JO 7400.11H, dated August 11, 2023, and effective September 15, 2023”.

c. In the final rule amending 14 CFR part 71 published on July 10, 2023 (88 FR 43432) for each instance of the words “FAA Order JO 7400.11G” remove those words and add in their place “FAA Order JO 7400.11H”.

22. For Docket No. FAA-2020-0707; Airspace Docket No. 18-AWP-28 (88 FR 44673, July 13, 2023).

Correction

a. In the final rule amending 14 CFR part 71 published on July 13, 2023 (88 FR 44673) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 13, 2023 (88 FR 44673) for each instance of the words “FAA Order JO 7400.11G, dated August 19, 2022, and effective September 15, 2022” remove those words and add in their place “FAA Order JO 7400.11H, dated August 11, 2023, and effective September 15, 2023”.

c. In the final rule amending 14 CFR part 71 published on July 13, 2023 (88 FR 44673) for each instance of the words “FAA Order JO 7400.11G” remove those words and add in their place “FAA Order JO 7400.11H”.

23. For Docket No. FAA-2023-1008; Airspace Docket No. 23-AGL-14 (88 FR 44674, July 13, 2023).

Correction

a. In the final rule amending 14 CFR part 71 published on July 13, 2023 (88 FR 44674) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 13, 2023 (88 FR 44674) for each instance of the words “FAA Order JO 7400.11G, dated August 19, 2022, and effective September 15, 2022” remove those words and add in their place “FAA Order JO 7400.11H, dated August 11, 2023, and effective September 15, 2023”.

c. In the final rule amending 14 CFR part 71 published on July 13, 2023 (88 FR 44674) for each instance of the words “FAA Order JO 7400.11G” remove those words and add in their place “FAA Order JO 7400.11H”.

24. For Docket No. FAA-2023-0721; Airspace Docket No. 22-ASW-16 (88 FR 45058, July 14, 2023).

Correction

a. In the final rule amending 14 CFR part 71 published on July 14, 2023 (88 FR 45058) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 14, 2023 (88 FR 45058) for each instance of the words “FAA Order JO 7400.11G, dated August 19, 2022, and effective September 15, 2022” remove those words and add in their place “FAA Order JO 7400.11H, dated August 11, 2023, and effective September 15, 2023”.

c. In the final rule amending 14 CFR part 71 published on July 14, 2023 (88 FR 45058) for each instance of the words “FAA Order JO 7400.11G” remove those words and add in their place “FAA Order JO 7400.11H”.

25. For Docket No. FAA-2022-0216; Airspace Docket No. 19-AAL-63 (88 FR 45329, July 17, 2023; delayed 88 FR 50764, August 2, 2023; corrected 88 FR 60886, September 6, 2023).

Correction

a. In the final rule amending 14 CFR part 71 published on July 17, 2023 (88 FR 45329; delayed 88 FR 50764, August 2, 2023; corrected 88 FR 60886, September 6, 2023) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 17, 2023 (88 FR 45329; delayed 88 FR 50764, August 2, 2023; corrected 88 FR 60886, September 6, 2023) for each instance of the words “FAA Order JO 7400.11G, dated August 19, 2022, and effective September 15, 2022” remove those words and add in their place “FAA Order JO 7400.11H, dated August 11, 2023, and effective September 15, 2023”.

c. In the final rule amending 14 CFR part 71 published on July 17, 2023 (88 FR 45329; delayed 88 FR 50764, August 2, 2023; corrected 88 FR 60886, September 6, 2023) for each instance of the words “FAA Order JO 7400.11G” remove those words and add in their place “FAA Order JO 7400.11H”.

26. For Docket No. FAA-2023-1533; Airspace Docket No. 23-AWA-4 (88 FR 45812, July 18, 2023; correction 88 FR 54230, August 10, 2023).

Correction

a. In the final rule amending 14 CFR part 71 published on July 18, 2023 (88 FR 45812; correction 88 FR 54230, August 10, 2023) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 18, 2023 (88 FR 45812; correction 88 FR 54230, August 10, 2023) for each instance of the words “FAA Order JO 7400.11G, dated August 19, 2022, and effective September 15, 2022” remove those words and add in their place “FAA Order JO 7400.11H, dated August 11, 2023, and effective September 15, 2023”.

c. In the final rule amending 14 CFR part 71 published on July 18, 2023 (88 FR 45812; correction 88 FR 54230, August 10, 2023) for each instance of the words “FAA Order JO 7400.11G” remove those words and add in their place “FAA Order JO 7400.11H”.

27. For Docket No. FAA-2023-0837; Airspace Docket No. 23-ANE-05 (88 FR 45811, July 18, 2023).

Correction

a. In the final rule amending 14 CFR part 71 published on July 18, 2023 (88 FR 45811) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 18, 2023 (88 FR 45811) for each instance of the words “FAA Order JO 7400.11G, dated August 19, 2022, and effective September 15, 2022” remove those words and add in their place “FAA Order JO 7400.11H, dated August 11, 2023, and effective September 15, 2023”.

c. In the final rule amending 14 CFR part 71 published on July 18, 2023 (88 FR 45811) for each instance of the words “FAA Order JO 7400.11G” remove those words and add in their place “FAA Order JO 7400.11H”.

28. For Docket No. FAA-2022-1796; Airspace Docket No. 22-AAL-30 (88 FR 45810, July 18, 2023).

Correction

a. In the final rule amending 14 CFR part 71 published on July 18, 2023 (88 FR 45810) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 18, 2023 (88 FR 45810) for each instance of the words “FAA Order JO 7400.11G, dated August 19, 2022, and effective September 15, 2022” remove those words and add in their place “FAA Order JO 7400.11H, dated August 11, 2023, and effective September 15, 2023”.

c. In the final rule amending 14 CFR part 71 published on July 18, 2023 (88 FR 45810) for each instance of the words “FAA Order JO 7400.11G” remove those words and add in their place “FAA Order JO 7400.11H”.

29. For Docket No. FAA-2022-1798; Airspace Docket No. 22-AAL-32 (88 FR 46682, July 20, 2023).

Correction

a. In the final rule amending 14 CFR part 71 published on July 20, 2023 (88 FR 46682) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 20, 2023 (88 FR 46682) for each instance of the words “FAA Order JO 7400.11G, dated August 19, 2022, and effective September 15, 2022” remove those words and add in their place “FAA Order JO 7400.11H, dated August 11, 2023, and effective September 15, 2023”.

c. In the final rule amending 14 CFR part 71 published on July 20, 2023 (88 FR 46682) for each instance of the words “FAA Order JO 7400.11G” remove those words and add in their place “FAA Order JO 7400.11H”.

30. For Docket No. FAA-2023-0673; Airspace Docket No. 23-ANE-03 (88 FR 46681, July 20, 2023).

Correction

a. In the final rule amending 14 CFR part 71 published on July 20, 2023 (88 FR 46681) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 20, 2023 (88 FR 46681) for each instance of the words “FAA Order JO 7400.11G, dated August 19, 2022, and effective September 15, 2022” remove those words and add in their place “FAA Order JO 7400.11H, dated August 11, 2023, and effective September 15, 2023”.

c. In the final rule amending 14 CFR part 71 published on July 20, 2023 (88 FR 46681) for each instance of the words “FAA Order JO 7400.11G” remove those words and add in their place “FAA Order JO 7400.11H”.

31. For Docket No. FAA-2023-0328; Airspace Docket No. 22-ASO-37 (88 FR 46685, July 20, 2023).

Correction

a. In the final rule amending 14 CFR part 71 published on July 20, 2023 (88 FR 46685) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 20, 2023 (88 FR 46685) for each instance of the words “FAA Order JO 7400.11G, dated August 19, 2022, and effective September 15, 2022” remove those words and add in their place “FAA Order JO 7400.11H, dated August 11, 2023, and effective September 15, 2023”.

c. In the final rule amending 14 CFR part 71 published on July 20, 2023 (88 FR 46685) for each instance of the words “FAA Order JO 7400.11G” remove those words and add in their place “FAA Order JO 7400.11H”.

32. For Docket No. FAA-2023-0444; Airspace Docket No. 22-ASO-16 (88 FR 46683, July 20, 2023).

Correction

a. In the final rule amending 14 CFR part 71 published on July 20, 2023 (88 FR 46683) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 20, 2023 (88 FR 46683) for each instance of the words “FAA Order JO 7400.11G, dated August 19, 2022, and effective September 15, 2022” remove those words and add in their place “FAA Order JO 7400.11H, dated August 11, 2023, and effective September 15, 2023”.

c. In the final rule amending 14 CFR part 71 published on July 20, 2023 (88 FR 46683) for each instance of the words “FAA Order JO 7400.11G” remove those words and add in their place “FAA Order JO 7400.11H”.

33. For Docket No. FAA-2022-0266; Airspace Docket No. 19-AAL-56 (88 FR 46687, July 20, 2023).

Correction

a. In the final rule amending 14 CFR part 71 published on July 20, 2023 (88 FR 46687) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 20, 2023 (88 FR 46687) for each instance of the words “FAA Order JO 7400.11G, dated August 19, 2022, and effective September 15, 2022” remove those words and add in their place “FAA Order JO 7400.11H, dated August 11, 2023, and effective September 15, 2023”.

c. In the final rule amending 14 CFR part 71 published on July 20, 2023 (88 FR 46687) for each instance of the words “FAA Order JO 7400.11G” remove those words and add in their place “FAA Order JO 7400.11H”.

34. For Docket No. FAA-2023-0995; Airspace Docket No. 23-ASO-17 (88 FR 47362, July 24, 2023; corrected 88 FR 54232, August 10, 2023).

Correction

a. In the final rule amending 14 CFR part 71 published on July 24, 2023 (88 FR 47362; corrected 88 FR 54232, August 10, 2023) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47362; corrected 88 FR 54232, August 10, 2023) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47362; corrected 88 FR 54232, August 10, 2023) for each instance of the words “FAA Order JO 7400.11G” remove those words and add in their place “FAA Order JO 7400.11H”.

35. For Docket No. FAA-2022-0215; Airspace Docket No. 19-AAL-61 (88 FR 47366, July 24, 2023; corrected 88 FR 54232, August 10, 2023).

Correction

a. In the final rule amending 14 CFR part 71 published on July 24, 2023 (88 FR 47366; corrected 88 FR 54232, August 10, 2023) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47366; corrected 88 FR 54232, August 10, 2023) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47366; corrected 88 FR 54232, August 10, 2023) for each instance of the words “FAA Order JO 7400.11G” remove those words and add in their place “FAA Order JO 7400.11H”.

36. For Docket No. FAA-2022-0244; Airspace Docket No. 19-AAL-48 (88 FR 47363, July 24, 2023).

Correction

a. In the final rule amending 14 CFR part 71 published on July 24, 2023 (88 FR 47363) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47363) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47363) for each instance of the words “FAA Order JO 7400.11G” remove those words and add in their place “FAA Order JO 7400.11H”.

37. For Docket No. FAA-2022-0440; Airspace Docket No. 19-AAL-45 (88 FR 47358, July 24, 2023).

Correction

a. In the final rule amending 14 CFR part 71 published on July 24, 2023 (88 FR 47358) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47358) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47358) for each instance of the words “FAA Order JO 7400.11G” remove those words and add in their place “FAA Order JO 7400.11H”.

38. For Docket No. FAA-2022-0434; Airspace Docket No. 19-AAL-69 (88 FR 47369, July 24, 2023).

Correction

a. In the final rule amending 14 CFR part 71 published on July 24, 2023 (88 FR 47369) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47369) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47369) for each instance of the words “FAA Order JO 7400.11G” remove those words and add in their place “FAA Order JO 7400.11H”.

39. For Docket No. FAA-2022-0435; Airspace Docket No. 19-AAL-73 (88 FR 47359, July 24, 2023).

Correction

a. In the final rule amending 14 CFR part 71 published on July 24, 2023 (88 FR 47359) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47359) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47359) for each instance of the words “FAA Order JO 7400.11G” remove those words and add in their place “FAA Order JO 7400.11H”.

40. For Docket No. FAA-2022-0428; Airspace Docket No. 21-AAL-20 (88 FR 47367, July 24, 2023).

Correction

a. In the final rule amending 14 CFR part 71 published on July 24, 2023 (88 FR 47367) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47367) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47367) for each instance of the words “FAA Order JO 7400.11G” remove those words and add in their place “FAA Order JO 7400.11H”.

41. For Docket No. FAA-2023-0985; Airspace Docket No. 23-ASO-16 (88 FR 47365, July 24, 2023).

Correction

a. In the final rule amending 14 CFR part 71 published on July 24, 2023 (88 FR 47365) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47365) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47365) for each instance of the words “FAA Order JO 7400.11G” remove those words and add in their place “FAA Order JO 7400.11H”.

42. For Docket No. FAA-2023-1186; Airspace Docket No. 23-ASO-22 (88 FR 47361, July 24, 2023).

Correction

a. In the final rule amending 14 CFR part 71 published on July 24, 2023 (88 FR 47361) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 24, 2023 (88 FR 47361) for each instance of the words “FAA Order JO 7400.11G, dated August 19, 2022, and effective September 15, 2022” remove those words and add in their place “FAA Order JO 7400.11H, dated August 11, 2023, and effective September 15, 2023”.

c. In the final rule amending 14 CFR part 71 published on July 24, 2023 (88 FR 47361) for each instance of the words “FAA Order JO 7400.11G” remove those words and add in their place “FAA Order JO 7400.11H”.

43. For Docket No. FAA-2023-1276; Airspace Docket No. 22-AEA-37 (88 FR 47762, July 25, 2023).

Correction

a. In the final rule amending 14 CFR part 71 published on July 25, 2023 (88 FR 47762) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 25, 2023 (88 FR 47762) for each instance of the words “FAA Order JO 7400.11G, dated August 19, 2022, and effective September 15, 2022” remove those words and add in their place “FAA Order JO 7400.11H, dated August 11, 2023, and effective September 15, 2023”.

c. In the final rule amending 14 CFR part 71 published on July 25, 2023 (88 FR 47762) for each instance of the words “FAA Order JO 7400.11G” remove those words and add in their place “FAA Order JO 7400.11H”.

44. For Docket No. FAA-2022-0249; Airspace Docket No. 19-AAL-52 (88 FR 47759, July 25, 2023).

Correction

a. In the final rule amending 14 CFR part 71 published on July 25, 2023 (88 FR 47759) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 25, 2023 (88 FR 47759) for each instance of the words “FAA Order JO 7400.11G, dated August 19, 2022, and effective September 15, 2022” remove those words and add in their place “FAA Order JO 7400.11H, dated August 11, 2023, and effective September 15, 2023”.

c. In the final rule amending 14 CFR part 71 published on July 25, 2023 (88 FR 47759) for each instance of the words “FAA Order JO 7400.11G” remove those words and add in their place “FAA Order JO 7400.11H”.

45. For Docket No. FAA-2022-0265; Airspace Docket No. 19-AAL-55 (88 FR 47757, July 25, 2023; corrected 88 FR 54231, August 10, 2023).

Correction

a. In the final rule amending 14 CFR part 71 published on July 25, 2023 (88 FR 47757; corrected 88 FR 54231, August 10, 2023) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 25, 2023 (88 FR 47757; corrected 88 FR 54231, August 10, 2023) for each instance of the words “FAA Order JO 7400.11G, dated August 19, 2022, and effective September 15, 2022” remove those words and add in their place “FAA Order JO 7400.11H, dated August 11, 2023, and effective September 15, 2023”.

c. In the final rule amending 14 CFR part 71 published on July 25, 2023 (88 FR 47757; corrected 88 FR 54231, August 10, 2023) for each instance of the words “FAA Order JO 7400.11G” remove those words and add in their place “FAA Order JO 7400.11H”.

46. For Docket No. FAA-2022-0182; Airspace Docket No. 21-AAL-16 (88 FR 47760, July 25, 2023).

Correction

a. In the final rule amending 14 CFR part 71 published on July 25, 2023 (88 FR 47760) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 25, 2023 (88 FR 47760) for each instance of the words “FAA Order JO 7400.11G, dated August 19, 2022, and effective September 15, 2022” remove those words and add in their place “FAA Order JO 7400.11H, dated August 11, 2023, and effective September 15, 2023”.

c. In the final rule amending 14 CFR part 71 published on July 25, 2023 (88 FR 47760) for each instance of the words “FAA Order JO 7400.11G” remove those words and add in their place “FAA Order JO 7400.11H”.

47. For Docket No. FAA-2023-1020; Airspace Docket No. 21-AEA-31 (88 FR 48070, July 26, 2023).

Correction

a. In the final rule amending 14 CFR part 71 published on July 26, 2023 (88 FR 48070) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 26, 2023 (88 FR 48070) for each instance of the words “FAA Order JO 7400.11G, dated August 19, 2022, and effective September 15, 2022” remove those words and add in their place “FAA Order JO 7400.11H, dated August 11, 2023, and effective September 15, 2023”.

c. In the final rule amending 14 CFR part 71 published on July 26, 2023 (88 FR 48070) for each instance of the words “FAA Order JO 7400.11G” remove those words and add in their place “FAA Order JO 7400.11H”.

48. For Docket No. FAA-2022-0430; Airspace Docket No. 19-AAL-75 (88 FR 48361, July 27, 2023).

Correction

a. In the final rule amending 14 CFR part 71 published on July 27, 2023 (88 FR 48361) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 27, 2023 (88 FR 48361) for each instance of the words “FAA Order JO 7400.11G, dated August 19, 2022, and effective September 15, 2022” remove those words and add in their place “FAA Order JO 7400.11H, dated August 11, 2023, and effective September 15, 2023”.

c. In the final rule amending 14 CFR part 71 published on July 27, 2023 (88 FR 48361) for each instance of the words “FAA Order JO 7400.11G” remove those words and add in their place “FAA Order JO 7400.11H”.

49. For Docket No. FAA-2022-0429; Airspace Docket No. 21-AAL-40 (88 FR 48359, July 27, 2023).

Correction

a. In the final rule amending 14 CFR part 71 published on July 27, 2023 (88 FR 48359) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 27, 2023 (88 FR 48359) for each instance of the words “FAA Order JO 7400.11G, dated August 19, 2022, and effective September 15, 2022” remove those words and add in their place “FAA Order JO 7400.11H, dated August 11, 2023, and effective September 15, 2023”.

c. In the final rule amending 14 CFR part 71 published on July 27, 2023 (88 FR 48359) for each instance of the words “FAA Order JO 7400.11G” remove those words and add in their place “FAA Order JO 7400.11H”.

50. For Docket No. FAA-2022-0221; Airspace Docket No. 19-AAL-77 (88 FR 48362, July 27, 2023).

Correction

a. In the final rule amending 14 CFR part 71 published on July 27, 2023 (88 FR 48362) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 27, 2023 (88 FR 48362) for each instance of the words “FAA Order JO 7400.11G, dated August 19, 2022, and effective September 15, 2022” remove those words and add in their place “FAA Order JO 7400.11H, dated August 11, 2023, and effective September 15, 2023”.

c. In the final rule amending 14 CFR part 71 published on July 27, 2023 (88 FR 48362) for each instance of the words “FAA Order JO 7400.11G” remove those words and add in their place “FAA Order JO 7400.11H”.

51. For Docket No. FAA-2022-0197; Airspace Docket No. 21-AAL-17 (88 FR 48358, July 27, 2023).

Correction

a. In the final rule amending 14 CFR part 71 published on July 27, 2023 (88 FR 48358) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on July 27, 2023 (88 FR 48358) for each instance of the words “FAA Order JO 7400.11G, dated August 19, 2022, and effective September 15, 2022” remove those words and add in their place “FAA Order JO 7400.11H, dated August 11, 2023, and effective September 15, 2023”.

c. In the final rule amending 14 CFR part 71 published on July 27, 2023 (88 FR 48358) for each instance of the words “FAA Order JO 7400.11G” remove those words and add in their place “FAA Order JO 7400.11H”.

52. For Docket No. FAA-2022-0245; Airspace Docket No. 19-AAL-49 (88 FR 50018, August 1, 2023).

Correction

a. In the final rule amending 14 CFR part 71 published on August 1, 2023 (88 FR 50018) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on August 1, 2023 (88 FR 50018) for each instance of the words “FAA Order JO 7400.11G, dated August 19, 2022, and effective September 15, 2022” remove those words and add in their place “FAA Order JO 7400.11H, dated August 11, 2023, and effective September 15, 2023”.

c. In the final rule amending 14 CFR part 71 published on August 1, 2023 (88 FR 50018) for each instance of the words “FAA Order JO 7400.11G” remove those words and add in their place “FAA Order JO 7400.11H”.

53. For Docket No. FAA-2023-1082; Airspace Docket No. 23-ASO-21 (88 FR 54229, August 10, 2023).

Correction

a. In the final rule amending 14 CFR part 71 published on August 10, 2023 (88 FR 54229) for each instance of the words “FAA Order JO 7400.11G, Airspace Designations and Reporting Points, dated August 19, 2022, and effective September 15, 2022” remove those words and add in their place “FAA Order JO 7400.11H, Airspace Designations and Reporting Points, dated August 10, 2023, and effective September 15, 2023”.

b. In the final rule amending 14 CFR part 71 published on August 10, 2023 (88 FR 54229) for each instance of the words “FAA Order JO 7400.11G, dated August 19, 2022, and effective September 15, 2022” remove those words and add in their place “FAA Order JO 7400.11H, dated August 10, 2023, and effective September 15, 2023”.

c. In the final rule amending 14 CFR part 71 published on August 10, 2023 (88 FR 54229) for each instance of the words “FAA Order JO 7400.11G” remove those words and add in their place “FAA Order JO 7400.11H”.

54. For Docket No. FAA-2023-1004; Airspace Docket No. 23-ASO-18 (88 FR 54227, August 10, 2023).

Correction

a. In the final rule amending 14 CFR part 71 published on August 10, 2023 (88 FR 54227) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on August 10, 2023 (88 FR 54227) for each instance of the words “FAA Order JO 7400.11G, dated August 19, 2022, and effective September 15, 2022” remove those words and add in their place “FAA Order JO 7400.11H, dated August 11, 2023, and effective September 15, 2023”.

c. In the final rule amending 14 CFR part 71 published on August 10, 2023 (88 FR 54227) for each instance of the words “FAA Order JO 7400.11G” remove those words and add in their place “FAA Order JO 7400.11H”.

55. For Docket No. FAA-2023-0919; Airspace Docket No. 23-AGL-11 (88 FR 54228, August 10, 2023).

Correction

a. In the final rule amending 14 CFR part 71 published on August 10, 2023 (88 FR 54228) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on August 10, 2023 (88 FR 54228) for each instance of the words “FAA Order JO 7400.11G, dated August 19, 2022, and effective September 15, 2022” remove those words and add in their place “FAA Order JO 7400.11H, dated August 11, 2023, and effective September 15, 2023”.

c. In the final rule amending 14 CFR part 71 published on August 10, 2023 (88 FR 54228) for each instance of the words “FAA Order JO 7400.11G” remove those words and add in their place “FAA Order JO 7400.11H”.

56. For Docket No. FAA-2023-1010; Airspace Docket No. 23-AGL-15 (88 FR 54225, August 10, 2023).

Correction

a. In the final rule amending 14 CFR part 71 published on August 10, 2023 (88 FR 54225) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on August 10, 2023 (88 FR 54225) for each instance of the words “FAA Order JO 7400.11G, dated August 19, 2022, and effective September 15, 2022” remove those words and add in their place “FAA Order JO 7400.11H, dated August 11, 2023, and effective September 15, 2023”.

c. In the final rule amending 14 CFR part 71 published on August 10, 2023 (88 FR 54225) for each instance of the words “FAA Order JO 7400.11G” remove those words and add in their place “FAA Order JO 7400.11H”.

57. For Docket No. FAA-2023-0735; Airspace Docket No. 23-ASW-11 (88 FR 54233, August 10, 2023).

Correction

a. In the final rule amending 14 CFR part 71 published on August 10, 2023 (88 FR 54233) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on August 10, 2023 (88 FR 54233) for each instance of the words “FAA Order JO 7400.11G, dated August 19, 2022, and effective September 15, 2022” remove those words and add in their place “FAA Order JO 7400.11H, dated August 11, 2023, and effective September 15, 2023”.

c. In the final rule amending 14 CFR part 71 published on August 10, 2023 (88 FR 54233) for each instance of the words “FAA Order JO 7400.11G” remove those words and add in their place “FAA Order JO 7400.11H”.

58. For Docket No. FAA-2023-1389; Airspace Docket No. 23-AGL-19 (88 FR 62460, September 12, 2023).

Correction

a. In the final rule amending 14 CFR part 71 published on September 12, 2023 (88 FR 62460) for each instance of the words “FAA Order JO 7400.11G, Airspace Designations and Reporting Points, dated August 19, 2022, and effective September 15, 2022” remove those words and add in their place “FAA Order JO 7400.11H, Airspace Designations and Reporting Points, dated August 11, 2023, and effective September 15, 2023”.

b. In the final rule amending 14 CFR part 71 published on September 12, 2023 (88 FR 62460) for each instance of the words “FAA Order JO 7400.11G, dated August 19, 2022, and effective September 15, 2022” remove those words and add in their place “FAA Order JO 7400.11H, dated August 11, 2023, and effective September 15, 2023”.

c. In the final rule amending 14 CFR part 71 published on September 12, 2023 (88 FR 62460) for each instance of the words “FAA Order JO 7400.11G” remove those words and add in their place “FAA Order JO 7400.11H”.

Issued in Washington, DC, on September 19, 2023.
Karen L. Chiodini,
Acting Manager, Rules and Regulations Group.

[FR Doc. 2023-20615 Filed 9-25-23; 8:45 am]

BILLING CODE 4910-13-P